DEPARTMENT OF THE INTERIOR

Bureau of Land Management

[NV-952-02-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10 a.m. on the dates indicated below.

FOR FURTHER INFORMATION CONTACT: Robert M. Scruggs, Chief, Branch of Geographic Sciences, Bureau of Land Management (BLM), Nevada State Office, 1340 Financial Blvd., P.O. Box 12000, Reno, Nevada 89520, 775-861-6541.

SUPPLEMENTARY INFORMATION: 1. The Plats of Survey of the following described lands were officially filed at the Nevada State Office, Reno, Nevada on June 13, 2002:

The plat, in three (3) sheets, representing the corrective dependent resurvey and dependent resurvey of a portion of the south boundary, the corrective dependent resurvey and dependent resurvey of a portion the subdivisional lines, the dependent resurvey of a portion of section 34, the further subdivision of section 34, the metes-and-bounds survey of Tracts 37, 38, 39, and 40, and the metes-and-bounds survey of Lot 7 in section 34, Township 19 North, Range 20 East, Mount Diablo Meridian, Nevada, under Group No. 741, was accepted June 11, 2002.

The plat representing the dependent resurvey of a portion of the east boundary and a portion of the subdivisional lines, and the subdivision of section 25, and a metes-and-bounds survey in section 25, Township 12 North, Range 20 East, Mount Diablo Meridian, Nevada, under Group No. 801, was accepted June 11, 2002.

Theses surveys were executed to meet certain administrative needs of the Bureau of Land Management.

2. The Plats of Survey of the following described lands will be officially filed at the Nevada State Office, Reno, Nevada on the first business day after thirty (30) days from the publication of this notice: The plat representing the survey of the south boundary, a portion of the west boundary and a portion of the subdivisional lines of Township 15 North, Range 33 East, Mount Diablo Meridian, Nevada, under Group No. 793, was accepted June 18, 2002.

The plat representing the survey of a portion of the south boundary and a portion of the subdivisional lines, and the subdivision of section 32, Township 15 North, Range 34 East, Mount Diablo Meridian, Nevada, under Group No. 793, was accepted June 18, 2002.

The plat, in four (4) sheets, representing the dependent resurvey of portions of Mineral Survey Nos. 3630, 3927 and 4184, the survey of a portion of the subdivisional lines and the subdivision of certain sections, Township 16 North, Range 34 East, Mount Diablo Meridian, Nevada, under Group No. 793, was accepted June 18, 2002.

These surveys were executed to meet certain administrative needs of the Department of the Navy.

3. Subject to valid existing rights, the provisions of existing withdrawals and classifications, the requirements of applicable laws, and other segregations of record, these lands are open to application, petition, and disposal, including application under the mineral leasing laws. All such valid applications received on or prior to official filing of the Plats of Survey described in paragraph 2, shall be considered as simultaneously filed at that time. Those received thereafter shall be considered in order of filing.

4. The above-listed surveys are now the basic record for describing the lands for all authorized purposes. These surveys have been placed in the open files in the BLM Nevada State Office and are available to the public as a matter of information. Copies of the surveys and related field notes may be furnished to the public upon payment of the appropriate fees.

Dated: June 20, 2002.
Robert M. Scruggs,
Chief Cadastral Surveyor, Nevada.

[FR Doc. 02-17345 Filed 7-9-02; 8:45 am]

BILLING CODE 4310-HC-P